DEPARTMENT OF THE INTERIOR

Bureau of Land Management

[WO-310-1310-PB-01-24 1 A]

Extension of Approved Information Collection, OMB Number 1004-0134

AGENCY: Bureau of Land Management, Interior.

ACTION: Notice and request for comments.

SUMMARY: In accordance with the Paperwork Reduction Act of 1995, the Bureau of Land Management (BLM) announces its intention to request renewal of an existing approval to collect certain information from operators and operating rights owners of Federal and Indian (except Osage) oil and gas leases. The information to be collected will be used to determine whether proposed operations may be approved to begin or alter operations or to allow operations to continue, or enables the monitoring of compliance with granted approvals. Granted approvals include drilling plans, prevention of waste, protection of resources, development of a lease, measurement, production verification, and protection of public health and safety.

DATES: Comments on the proposed information collection must be received by October 23, 2000, to assure consideration of them.

ADDRESSES: Comments may be mailed to: Regulatory Affairs Group (630), Bureau of Land Management, 1849 C Street NW., Room 401LS, Washington, DC 20240.

Comments may be sent via Internet to: WOComment@blm.gov. Please include “Attn: 1004-0134” and your name and return address in your Internet message.

You may hand-deliver comments to the Bureau of Land Management, Administrative Record, Room 401, 1620 L Street, NW, Washington, DC 20240.

BLM will make comments available for public review at the L Street address during regular business hours (7:45 a.m. to 4:15 p.m.), Monday through Friday).

FOR FURTHER INFORMATION CONTACT: Barbara Gamble, Fluid Minerals Group, (202) 452-0338.

SUPPLEMENTARY INFORMATION: In accordance with 5 CFR 1320.12(a), the BLM is required to provide 60-day notice in the Federal Register concerning a collection of information contained in published current rules to solicit comments on (a) whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology. BLM will receive and analyze any comments sent in response to this notice and include them with its request for approval from the OMB under 44 U.S.C. 3501 et seq.

In accordance with the Federal Oil and Gas Royalty Management Act of 1982 (30 U.S.C. 1701 et seq.); the Mineral Leasing Act of 1920, as amended (30 U.S.C. 181 et seq.); the Mineral Leasing Act for Acquired Lands of 1947, as amended (30 U.S.C. 351-359); the various Indian leasing acts; and the National Environmental Policy Act of 1969 (NEPA), as amended (42 U.S.C. 4321 et seq.), BLM's implementing regulations at 43 CFR part 3160 require affected Federal and Indian (except Osage) oil and gas operators and operating rights owners to maintain records or provide information by means other than the submission of forms.

The recordkeeping and nonform information collection items required under various provisions of 43 CFR part 3160 pertain to data submitted by the operator or operating rights owner. The information either provides data so that proposed operations may be approved or enables the monitoring of compliance with granted approval and is used to grant approval to begin or alter operations or to allow operations to continue. The specific requirements are listed by regulation section.

The information required under 43 CFR part 3160 covers a broad range of possible operations, and rarely will any specific operator be required to obtain or provide each item. Many of the requirements are one-time filings used to gain approval to conduct a variety of oil and gas operations. Others are routine data submissions that are used to monitor production and ensure compliance with lease terms, regulations, Orders, Notices to Lessees, and conditions of approval. Production information from each producing lease is used to verify volumes and disposition of oil and gas produced on Federal and Indian lands. All recordkeeping burdens are associated with nonform items requested.

Based on its experience managing the activities required by these regulations, BLM estimates the average public reporting burden of each provision for the information collection, including recordkeeping, ranges from about 10 minutes to 16 hours per response, depending on which information is required. The respondents are operators and operating rights owners of Federal and Indian (except Osage) oil and gas leases. The frequency of response varies from one-time-only to occasionally to routine, depending on activities conducted on oil and gas leases and on operational circumstances. The number of responses per year is estimated to total 193,855. The estimated total annual burden on new respondents is about 96,885. BLM is specifically requesting your comments on its estimate of the amount of time that it takes to prepare a response. The table below summarizes our estimates.

Information collection (43 CFR) | Requirement | Hours per response | Burden hours | Respondents
3162.3-1(a) | Well-Spacing Program | .5 | 75 | 150
3162.3-1(e) | Drilling Plans | 8 | 23,000 | 2,875
3162.6 | Well Markers | .5 | 150 | 300
3162.5-2(b) | Direction Drilling | 1 | 165 | ¹ 165
3162.4-2(a) | Drilling Tests, Logs, Surveys | 1 | 330 | ¹ 330
3162.3-4(a) | Plug and Abandon for Water Injection | 1.5 | 1,800 | 1,200
3162.3-4(b) | Plug and Abandon for Water Source | 1.5 | 1,800 | 1,200
3162.7-1(d) | Additional Gas Flaring | 1 | 400 | 400
3162.5-1(c) | Report of Spills, Discharges, or Other Undesirable Events | 2 | 400 | 200
3162.5-1(b) | Disposal of Produced Water | 2 | 3,000 | 1,500
3162.5-1(d) | Contingency Plan | 16 | 800 | 50
3162.4-1(a) and 3162.7-5(d)(1) | Schematic/Facility Diagrams | 4 | 9,400 | 2,350
3162.7-1(b) | Approval and Reporting of Oil in Pits | .5 | 260 | 520
3164.1 (Order No. 3) | Prepare Run Tickets | .2 | 18,000 | 90,000
3162.7-5(b) | Records on Seals | .2 | 18,000 | 90,000
3165.1(a) | Application for Suspension | 8 | 800 | 100
3165.3(b) | State Director Review | 16 | 1,600 | 100
3162.7-5(c) | Site Security | 7 | 16,905 | 2,415
Totals |  |  | 96,885 | 193,855
¹ Or 5% of wells.

The respondents already maintain the types of information collected for their own recordkeeping purposes and need only submit the required information. All information collections in the regulations at 43 CFR part 3160 that do not require a form are covered by this notice. BLM intends to submit these information collections collectively for approval by the Office of Management and Budget.

BLM will summarize all responses to this notice and include them in the request for Office of Management and Budget approval. All comments will also become a matter of public record.

Dated: August 16, 2000.
Shirlean Besir,
BLM Information Clearance Officer.

[FR Doc. 00-21320 Filed 8-21-00; 8:45 am]

BILLING CODE 4310-84-M